FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012102.

Title: Hoegh Autoliners/EUKOR African Space Charter Agreement.

Parties: EUKOR Car Carriers, Inc. and Hoegh Autoliners AS.

Filing Parties: Wayne R. Rohde, Esq.; Sher & Blackwell LLP; 1850 M Street, NW., Suite 900; Washington, DC 20036.

Synopsis: The agreement authorizes the parties to charter space to and from one another on an “as needed or as available” basis in the trades between the U.S. and Africa.

Agreement No.: 012103.

Title: CMA CGM/CSAV Victory Bridge Vessel Sharing Agreement.

Parties: CMA CGM Antilles Guyane and Compania Sud American de Vapores S.A.

Filing Party: Draughn Arbona, Esq.; Associate Counsel & Environmental Officer; CMA CGM (America) LLC; 5701 Lake Wright Drive; Norfolk, VA 23502.

Synopsis: The agreement authorizes the parties to share vessel space in the trade between the U.S. Atlantic and Gulf coast and North Europe and Mexico.

Agreement No.: 201162-006.

Title: NYSA-ILA Assessment Agreement.

Parties: International Longshoremen's Association and New York Shipping Association.

Filing Parties: Donato Caruso, Esq.; The Lambos Firm; 29 Broadway, 9th Floor; New York, NY 10006 and Andre Mazzola, Esq.; Marrinan & Mazzola Mardon, P.C.; 26 Broadway, 17th Floor; New York, NY 10004.

Synopsis: The amendment revises the assessment rate per house container within 260 miles in the Puerto Rico trade.

By Order of the Federal Maritime Commission.
Dated: July 2, 2010.
Karen V. Gregory,
Secretary.

[FR Doc. 2010-16662 Filed 7-7-10; 8:45 am]

BILLING CODE 6730-01-P